ENVIRONMENTAL PROTECTION AGENCY

40 CFR Part 52

[R06-OAR-2005-TX-0001; FRL-7871-7]

Approval and Promulgation of Air Quality Implementation Plans; Texas; Revisions To Control Volatile Organic Compound Emissions From Consumer Related Sources

Correction

In rule document 05-2616 beginning on page 7041 in the issue of February 10, 2005, make the following correction:

§52.2270 [Corrected]

On page 7044, in § 52.2270(c), in the table, in the fourth column “EPA approval date”, in the first through the 14th entries “[Insert date of FR publication]” should read “[Insert FR page number where document begins]”.

[FR Doc. C5-2616 Filed 2-22-05; 8:45 am]

BILLING CODE 1505-01-D